DEPARTMENT OF ENERGY

Orders Granting Import/Export Authority Under the Natural Gas Act During July, 2018

| FE Docket Nos.
Southern LNG Company, L.L.C | 18-15-LNG
Jordan Cove Energy Project L.P | 11-127-LNG
Corpus Christi Liquefaction, LLC | 15-97-LNG
Uniper Global Commodities North America LLC | 18-73-NG; 17-83-NG
Chevron U.S.A. Inc | 18-74-LNG
ETC Marketing, Ltd | 18-75-NG
Sacramento Municipal Utility District | 18-76-NG
J. Aron & Company LLC | 18-77-NG
S.D. Sunnyland Enterprises, Inc | 18-47-NG
Twin Eagle Resource Management, LLC | 18-79-NG
Vista Energy Marketing, L.P | 18-81-NG
Vitol Inc | 18-80-NG
Atlantic Power Energy Services (US) LLC | 18-83-NG
Gunvor USA LLC | 18-84-NG; 17-139-NG
Sabine Pass Liquefaction, LLC | 18-85-LNG
LYZ Solutions LLC | 18-40-LNG
Union Gas Limited | 18-71-NG
Certarus (USA) Ltd | 18-88-NG
Energia Azteca X, S.A. de C.V | 18-86-NG

AGENCY: Office of Fossil Energy, Department of Energy.

ACTION: Notice of orders.

SUMMARY: The Office of Fossil Energy (FE) of the Department of Energy gives notice that during July 2018, it issued orders granting or vacating authority to import and export natural gas, and to import and export liquefied natural gas (LNG). These orders are summarized in the attached appendix and may be found on the FE website at https://www.energy.gov/fe/listing-doefe-authorizationsorders-issued-2018-0.

They are also available for inspection and copying in the U.S. Department of Energy (FE-34), Division of Natural Gas Regulation, Office of Regulation and International Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on August 23, 2018.
Amy Sweeney,
Director, Division of Natural Gas Regulation.

Appendix

DOE/FE Orders Granting Import/Export Authorizations
4206 | 07/6/18 | 18-15-LNG | Southern LNG Company, L.L.C | Order 4206 granting blanket authorization to export LNG by vessel from the Elba Island Terminal located in Chatham County, Georgia, to Free Trade Agreement and Non-free Trade Agreement Nations.
3041-A | 07/20/18 | 11-127-LNG | Jordan Cove Energy Project L.P | Order 3041-A amending long-term Multi-Contract Authority to export LNG by vessel from the Proposed Jordan Cove LNG Terminal to Free Trade Agreement Nations.
3699-A | 07/20/18 | 15-97-LNG | Corpus Christi Liquefaction, LLC | Order 3699-A granting Request to Vacate long-term Multi-Contract Authority to export LNG by vessel to Free Trade Agreement Nations and to Withdraw Application to export LNG by vessel to Non-free Trade Agreement Nations.
4207; 4064-A | 07/20/18 | 18-73-NG; 17-83-NG | Uniper Global Commodities North America LLC | Order 4207 granting blanket authority to import/export natural gas from/to Canada and Vacating prior authority Order 4064.
4208 | 07/20/18 | 18-74-LNG | Chevron U.S.A. Inc | Order 4208 granting blanket authority to import LNG from various international sources by vessel.
4209 | 07/20/18 | 18-75-NG | ETC Marketing, Ltd | Order 4209 granting blanket authority to import/export natural gas from/to Mexico.
4210 | 07/20/18 | 18-76-NG | Sacramento Municipal Utility District | Order 4210 granting blanket authority to import natural gas from Canada.
4211 | 07/20/18 | 18-77-NG | J. Aron & Company LLC | Order 4211 granting blanket authority to import/export natural gas from/to Canada/Mexico.
4212 | 07/24/18 | 18-47-NG | S.D. Sunnyland Enterprises, Inc | Order 4212 granting blanket authority to import LNG from various international sources by vessel and to export LNG to Canada by vessel.
4213 | 07/24/18 | 18-79-NG | Twin Eagle Resource Management, LLC | Order 4213 granting blanket authority to import/export natural gas from/to Canada/Mexico.
4214 | 07/24/18 | 18-81-NG | Vista Energy Marketing, L.P | Order 4214 granting blanket authority to import natural gas from Canada.
4215 | 07/24/18 | 18-80-NG | Vitol Inc | Order 4215 granting blanket authority to import/export natural gas from/to Mexico.
4216 | 07/24/18 | 18-83-NG | Atlantic Power Energy Services (US) LLC | Order 4216 granting blanket authority to import/export natural gas from/to Canada.
4217; 4119-A | 07/24/18 | 18-84-NG; 17-139-NG | Gunvor US LLC | Order 4217 granting blanket authority to import/export natural gas from/to Canada/Mexico and vacating prior authority Order 4119.
4218 | 07/24/18 | 18-85-NG | Sabine Pass Liquefaction, LLC | Order 4218 granting blanket authority to import LNG from various international sources by vessel.
4219 | 07/24/18 | 18-40-LNG | LYZ Solutions LLC | Order 4219 granting blanket authority to import LNG from various international sources by vessel and to export LNG to Canada/Mexico by vessel.
4220 | 07/31/18 | 18-71-NG | Union Gas Limited | Order 4220 granting blanket authority to import/export natural gas from/to Canada.
4221 | 07/31/18 | 18-88-NG | Certarus (USA) Ltd | Order 4221 granting blanket authority to import/export natural gas from/to Canada/Mexico.
4222 | 07/31/18 | 18-86-NG | Energia Azteca X, S.A. de C.V | Order 4222 granting blanket authority to export natural gas to Mexico.

[FR Doc. 2018-18729 Filed 8-28-18; 8:45 am]

BILLING CODE 6450-01-P